ENVIRONMENTAL PROTECTION AGENCY

[FRL-8497-9]

Science Advisory Board Staff Office; Notification of Public Teleconferences of the Science Advisory Board Integrated Nitrogen Committee

AGENCY: Environmental Protection Agency (EPA).

ACTION: Notice.

SUMMARY: The EPA's Science Advisory Board (SAB) Staff Office is announcing four public teleconferences of the SAB Integrated Nitrogen Committee.

DATES: The teleconferences will be held on December 13, 2007, January 17, February 13, and March 19, 2008. All teleconferences will be held from 2 p.m. to 4 p.m. (Eastern Time).

FOR FURTHER INFORMATION CONTACT: Any member of the public who wishes to obtain the call-in number and access code for the teleconferences or receive further information concerning the teleconferences may contact Ms. Kathleen White, Designated Federal Officer (DFO). Ms. White may be contacted at the EPA Science Advisory Board (1400F), U.S. Environmental Protection Agency, 1200 Pennsylvania Avenue, NW., Washington, DC 20460; or via telephone/voice mail: (202) 343-9878; fax: (202) 233-0643; or e-mail at: white.kathleen@epa.gov. General information concerning the EPA SAB can be found on the EPA Web site at: http://www.epa.gov/sab.

SUPPLEMENTARY INFORMATION: Background: The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies. Pursuant to the Federal Advisory Committee Act, Public Law 92-463, notice is hereby given that the SAB Integrated Nitrogen Committee will hold four public teleconferences to plan for its next face-to-face meeting scheduled for April 2008. The SAB Integrated Nitrogen Committee is conducting an evaluative study on the need for integrated research and control management strategies. To begin its work, the Committee held a public meeting on January 30-31, 2007, to develop a work plan for the study. Background information on that meeting was provided in a Federal Register notice (72 FR 1989, January 17, 2007). The Committee has furthered its work at several public teleconferences and meetings of June 20-22, 2007 and October 29-31, 2007 (72 FR 13492, March 22, 2007 and 72 FR 45425, August 14, 2007).

Availability of Meeting Materials: Materials in support of these teleconferences will be placed on the SAB Web site at: http://www.epa.gov/sab in advance of each teleconference.

Procedures for Providing Public Input: Interested members of the public may submit relevant written or oral information for the SAB to consider during the advisory process.

Oral Statements: In general, individuals or groups requesting an oral presentation at a public teleconference will be limited to five minutes per speaker, with no more than a total of one hour for all speakers. Interested parties should contact Ms. White, DFO, at the contact information noted above, no later than one full week before a scheduled teleconference to be placed on the public speaker list. Written Statements: Written statements should be received in the SAB Staff Office a week before a scheduled teleconference so that the information may be made available to the Committee for their consideration prior to the teleconference. Written statements should be supplied to the DFO in the following formats: one hard copy with original signature, and one electronic copy via e-mail at: white.kathleen@epa.gov (acceptable file format: Adobe Acrobat PDF, WordPerfect, MS Word, MS PowerPoint, or Rich Text files in IBM-PC/Windows 98/2000/XP format).

Meeting Access: For information on access or services for individuals with disabilities, please contact Ms. White at (202) 343-9878 or white.kathleen@epa.gov. To request accommodation of a disability, please contact Ms. White, preferably at least 10 days prior to the teleconference to give EPA as much time as possible to process your request.

Dated: November 9, 2007.
Vanessa T. Vu,
Director, EPA Science Advisory Board Staff Office.

[FR Doc. E7-22662 Filed 11-19-07; 8:45 am]

BILLING CODE 6560-50-P